DEPARTMENT OF ENERGY

National Nuclear Security Administration

Site-Wide Environmental Impact Statement for Sandia National Laboratories, New Mexico (SNL/NM)

AGENCY: National Nuclear Security Administration, U.S. Department of Energy.

ACTION: Notice of Re-opening of Public Scoping period and Announcement of additional Public Scoping Meetings.

SUMMARY: On June 24, 2011, the National Nuclear Security Administration (NNSA), a semiautonomous agency within the U.S. Department of Energy (DOE), published a Notice of Intent (NOI) for the preparation of a Site-Wide Environmental Impact Statement (SWEIS) for the Sandia National Laboratories, New Mexico (DOE/EIS-0466). That notice stated that the public review and comment period would continue until 45 days after publication in the Federal Register, ending on August 8, 2011. In response to a request from the public, NNSA has decided to Re-open the public comment period through September 12, 2011, and to hold two additional public scoping meetings on Thursday September 1, 2011, in Albuquerque, NM.

DATES: The public comment period for the SNL/NM SWEIS is being re-opened through September 12, 2011. The schedule for the additional public scoping meetings on the SWEIS with all dates, times, and locations is the following:

• Thursday, September 1, 2011—1-4 p.m., Hilton Albuquerque Hotel, 1901 University Boulevard Northeast, Albuquerque, New Mexico.

• Thursday, September 1, 2011—6-9 p.m., Hilton Albuquerque Hotel, 1901 University Boulevard Northeast, Albuquerque, New Mexico.

ADDRESSES: The NOI and scoping meeting materials are available for review on the NNSA NEPA Web site at: http://nnsa.energy.gov/nepa/sandiasweis. The NOI may be obtained upon request by leaving a message on the Sandia Site Office (SSO) SWEIS Hotline at (toll free) 1-855-766-4651; or by writing to: U.S. Department of Energy, National Nuclear Security Administration, Sandia Site Office, P. O. Box 5400, Albuquerque, New Mexico 87185, Attn: Ms. Jeanette Norte, SNL/NM SWEIS Document Manager; or by facsimile ((505) 284-7197); or by e-mail at: sandia.sweis@doeal.gov.

FOR FURTHER INFORMATION CONTACT: For general information on the NNSA NEPA process, please contact: Ms. Mary Martin (NA-GC), NNSA NEPA Compliance Officer, U.S. Department of Energy, 1000 Independence Avenue, SW., Washington, DC 20585, or telephone 202-586-9438. For general information concerning the DOE NEPA process, contact: Ms. Carol M. Borgstrom, Director, Office of NEPA Policy and Compliance (GC-54), U.S. Department of Energy, 1000 Independence Avenue, SW., Washington, DC 20585; (202) 586-4600; leave a message at (800) 472-2756; or send an e-mail to askNEPA@hq.energy.gov. Additional information regarding DOE NEPA activities and access to many DOE NEPA documents are available on the Internet through the DOE NEPA Web site at http://energy.gov/nepa.

SUPPLEMENTARY INFORMATION: DOE's NEPA implementing regulations (10 CFR 1021.330) require DOE to prepare SWEISs for certain large, multiple-facility DOE sites; DOE is required to evaluate site wide NEPA documents prepared under § 1021.330(c) at least every five years. In 1999 DOE/NNSA completed the first SNL/NM SWEIS which examined existing and potential impacts to the environment from ongoing and anticipated future DOE/NNSA operations conducted over approximately a 10-year period of time at SNL/NM and other DOE operations on and around Kirtland Air Force Base (KAFB). NNSA issued a Record of Decision (ROD) for the SWEIS in December 15, 1999 (64 FR 69996) announcing its decision to continue operations at SNL/NM under the expanded operations alternative. In August 2006, DOE/NNSA completed a 5-year review of the 1999 SNL/NM SWEIS with the preparation of a Supplement Analysis (SA) (DOE/EIS-0281-SA-04), to determine the adequacy of the existing EIS. Based on the 2006 Final Supplement Analysis for the Site-Wide Environmental Impact Statement for Sandia National Laboratories, New Mexico (DOE/EIS-0281-SA-04), DOE/NNSA determined that there were no substantial changes to the actions or impacts evaluated in the SNL/NM SWEIS, and there were no significant new circumstances or information relevant to environmental concerns; thus, the existing SNL/NM SWEIS was adequate and neither a supplemental EIS nor a new EIS was required.

The new SWEIS No Action Alternative will include the implementation of other decisions supported by separate NEPA analyses completed since the issuance of the Final 1999 SNL/NM SWEIS. This includes five Supplement Analyses resulting in the determination that further NEPA documentation was not required: (1) Supplement Analysis for the Final Site-Wide Environmental Impact Statement for Sandia National Laboratories, New Mexico to Reestablishing Long-Term Pulse Mode Testing Capability at the Annular Core Research Reactor (ACRR), Sandia National Laboratories, New Mexico (ACRR Pulse Mode SA) (DOE/EIS-0281-SA-01); (2) Supplement Analysis for the Final Site-Wide Environmental Impact Statement for Sandia National Laboratories, New Mexico for Isentropic Compression and Flyer Plate Experiments Involving Plutonium at the Z and Saturn Accelerators (Pu-ICE SA) (DOE/EIS-0281-SA-02); (3) Supplement Analysis for the Final Site-Wide Environmental Impact Statement for Sandia National Laboratories, New Mexico for the Installation of a Petawatt Laser System in TA-IV (Petawatt Laser System SA) (DOE/EIS-0281-SA-03); (4) Sandia National Laboratories, New Mexico Final Supplement Analysis for the Site-Wide Environmental Impact Statement (2006 SNL/NM SWEIS SA) (DOE/EIS-0281-SA-04); and (5) Final Complex Transformation Supplemental Programmatic Environmental Impact Statement (DOE/EIS-0235-S4) and its RODs (73 FR 77644 and 73 FR 77656). In addition the following seven environmental assessments and their associated Findings of No Significant Impacts will also be included in the No Action Alternative as well as actions categorically excluded from the need for preparation of either an EA or an EIS: (1) Environmental Assessment for the Microsystems and Engineering Sciences Applications Complex, DOE/EA-1335, September 2000; (2) Final Environmental Assessment for the Test Capabilities Revitalization at Sandia National Laboratories, New Mexico, DOE/EA-1446, January 2003; (3) Final Environmental Assessment for the Center for Integrated Nanotechnologies at Sandia National Laboratories, New Mexico, DOE/EA-1457, March 2003; (4) Final Environmental Assessment for the Proposed Consolidation of Neutron Generator Tritium Target Loading Production, DOE/EA-1532, June 2005; (5) Final Environmental Assessment for the Expansion of Permitted Land and Operations at the 9940 Complex and Thunder Range at Sandia National Laboratories, New Mexico, DOE/EA-1603, April 2008; (6) Final Environmental Assessment for the Removal Actions at the technical Area III Classified Waste Landfill, Sandia National Laboratories, New Mexico, DOE/EA-1729, August 2010; (7) Final Environmental Assessment for Proposed Construction and Lease of New Facilities for the Department of Energy, National Nuclear Security Administration, Office of Secure Transportation (Albuquerque transportation and Technology Center) Albuquerque, New Mexico, U. S. General Services Administration, July 2006. These various documents can be reviewed at the DOE/NNSA Public Reading Room at Government Information/Zimmerman Library, MSC05 3020, 1 University of New Mexico, Albuquerque, NM 87131-0001, Tel: 505/277-5441 Fax: 505/277-6019; E-mail: govref@unm.edu; Reading Room Web site: http://elibrary.unm.edu/doe; and on the Internet at: http://nepa.energy.gov.

On June 24, 2011, (76 FR 37100), NNSA published a NOI for the preparation of a SWEIS (DOE/EIS-0466) for the continued operation of DOE/NNSA activities at SNL/NM on KAFB and within the Albuquerque area, and other DOE activities at both on-site and off-site locations (i. e., the NNSA Service Center, the NNSA Office of Secure Transportation, NNSA Kirtland Operations, the NNSA Aviation Facility, and the DOE National Training Center). The NOI stated that the public scoping period would continue for 45 days after publication in the Federal Register, ending on August 8, 2011. NNSA has decided to re-open the public scoping period through September 12, 2011. NNSA has also decided to hold two additional public scoping meetings during the comment period. The newly added public scoping meetings will take place on Thursday September 1, 2011, in Albuquerque, NM. The complete schedule for the additional public scoping meetings on the SWEIS with all dates, times, and locations is the provided above, under DATES.

The SWEIS scoping meetings will use a format to facilitate dialogue between DOE/NNSA and the public and will provide individuals the opportunity to give written or oral statements. DOE/NNSA welcomes specific comments or suggestions on the SWEIS process. NNSA invites stakeholders and members of the public to submit comments on the scope of the SWEIS during the public scoping period, which started with the publication of the NOI in the Federal Register on June 24, 2011, and will now be continued through September 12, 2011. NNSA will consider comments received after this date to the extent practicable as it prepares the draft SWEIS. Questions or Comments concerning the scope of the SWEIS can be submitted to the NNSA SSO at the same postal and electronic addresses given above. Additionally, the SSO SWEIS Hotline provides instructions on how to record comments. Please mark all envelopes, faxes and e-mail: “Scoping Comments SSO SNL/NM SWEIS”.

Issued in Washington, DC on August 9, 2011.
Thomas P. D'Agostino,
Administrator, National Nuclear Security Administration.

[FR Doc. 2011-20546 Filed 8-11-11; 8:45 am]

BILLING CODE 6450-01-P